FEDERAL MARITIME COMMISSION

Ocean Transportation Intermediary License; Rescission of Order of Revocation

Notice is hereby given that the Order revoking the following license is being rescinded by the Federal Maritime Commission pursuant to sections 14 and 19 of the Shipping Act of 1984 (46 U.S.C. app. 1718) and the regulations of the Commission pertaining to the licensing of Ocean Transportation Intermediaries, 46 CFR part 515.

License No. | Name/address
016256N | Exim Services, Inc., 13952 Bora Bora Way, F-314, Marina Del Rey, CA 90292.

Sandra L. Kusumoto,
Director, Bureau of Certification and Licensing.

[FR Doc. 04-19975 Filed 8-31-04; 8:45 am]

BILLING CODE 6730-01-P